LIBRARY OF CONGRESS

U.S. Copyright Office

37 CFR Part 201

[Docket No. 2005-6]

Statutory Cable, Satellite, and DART License Reporting Practices

AGENCY: U.S. Copyright Office, Library of Congress.

ACTION: Request for reply comments; notice of ex-parte communication.

SUMMARY: On December 1, 2017, the United States Copyright Office published a notice of proposed rulemaking and request for comments concerning the royalty reporting practices of cable operators under section 111 and proposed revisions to the Statement of Account forms, and on proposed amendments to the Statement of Account filing requirements. The Copyright Office has determined that reply comments would also be appropriate for this rulemaking. In addition, the Office has determined that informal ex-parte communications with interested parties might be beneficial, such as to discuss nuances of proposed regulatory language.

DATES: Initial written comments in response to the proposed rule published December 1, 2017, at 82 FR 56926, continue to be due no later than 11:59 p.m. Eastern Time on January 16, 2018. Written reply comments must be received no later than 11:59 p.m. Eastern Time on January 30, 2018.

ADDRESSES: For reasons of government efficiency, the Copyright Office is using the regulations.gov system for the submission and posting of public comments in this proceeding. All comments are therefore to be submitted electronically through regulations.gov. Specific instructions for submitting comments are available on the Copyright Office Web site at https://copyright.gov/rulemaking/section111. If electronic submission of comments is not feasible due to lack of access to a computer and/or the internet, please contact the Office using the contact information below for special instructions.

FOR FURTHER INFORMATION CONTACT: Sarang V. Damle, General Counsel and Associate Register of Copyrights, by email at sdam@loc.gov, Regan A. Smith, Deputy General Counsel, by email at resm@loc.gov, or Anna Chauvet, Assistant General Counsel, by email at achau@loc.gov, or any of them by telephone at 202-707-8350.

SUPPLEMENTARY INFORMATION: On December 1, 2017, the Office issued a notice of proposed rulemaking (“NPRM”) on proposed rules governing the royalty reporting practices of cable operators under section 111 and proposed revisions to the Statement of Account forms, and on proposed amendments to the Statement of Account filing requirements.¹ The NPRM addresses certain issues outlined by a 2006 notice of inquiry published by the Office,² which received comments from multiple parties,³ as well as additional issues that have subsequently arisen. While the NPRM is primarily focused on reporting practices for the cable license, some of the rules proposed by the NPRM would also apply to remitters making use of the section 119 (satellite) or chapter 10 (“DART”) licenses.⁴ The Office welcomed public input on the proposed changes set forth in the NPRM, as well as other suggestions on streamlining or otherwise improving reporting practices for the section 111 license.

¹ 82 FR 56926 (Dec. 1, 2017).

² 71 FR 45749 (Aug. 10, 2006).

³ The initial and reply comments have been posted on the Office's Web site at https://copyright.gov/rulemaking/section111.

⁴ 82 FR at 56935-36.

A. Reply Comments

The Office has determined that interested parties should be given an opportunity to address the proposed regulation and any comments submitted in response to the NPRM before the Office adopts a final rule. Accordingly, the Office concludes that reply comments would be appropriate. Interested parties must submit written reply comments in accordance with the deadline specified in the DATES section above. Reply commenters should limit their remarks to the issues or concerns presented in the initial comments.

B. Ex-Parte Communication

Typically, the Office's communications with participants about ongoing rulemakings do not include discussions about the substance of the proceeding apart from the noticed phases of written comments. The Office has determined that informal communication with interested parties might be beneficial in this rulemaking, such as to discuss nuances of proposed regulatory language. Any such communication may occur before and after public comments are submitted to the Office, but before a final rule has issued. Parties wishing to participate in informal discussions with the Office should submit a written request using the contact information above.

The primary means to communicate views in the course of the rulemaking will, however, continue to be through the submission of written comments. In other words, informal communication will supplement, not substitute for, the written record. Should a party meet with the Office regarding this rulemaking, the participating party will be responsible for submitting a list of attendees and written summary of any oral communication to the Office, which will be made publicly available on the Office's Web site or regulations.gov. In sum, while the Office is establishing the option of informal meetings in this rulemaking, it will require that all such communications be on the record to ensure the greatest possible transparency.

Dated: December 6, 2017.
Sarang V. Damle,
General Counsel and Associate Register of Copyrights.

[FR Doc. 2017-26631 Filed 12-8-17; 8:45 am]

BILLING CODE 1410-30-P